DEPARTMENT OF THE INTERIOR

Bureau of Land Management

[NV-030-1050-HF-PALE; NV-030-04-003; 8-08807; TAS: 14X1109]

Notice to the Public of Emergency Closure of Public Lands, Douglas County, NV

AGENCY: Bureau of Land Management, Interior.

ACTION: Notice.

SUMMARY: Certain public lands located in the Pine Nut Mountain range of Douglas County, Nevada, will be temporarily closed to motorized vehicles. An emergency closure is necessary to prevent further adverse effects to paleontological resources in the Ruhenstroth paleontological area where resource damage is occurring. The potential for additional adverse effects as a result of unrestricted off-highway vehicle use within the area is substantial and significant. Major roads in the area will remain open.

DATES: The emergency closure becomes effective on January 30, 2008.

FOR FURTHER INFORMATION CONTACT: James Carter, (775) 885-6109.

SUPPLEMENTARY INFORMATION: This closure is authorized under the provisions of the Federal Land Policy and Management Act of 1976, 43 U.S.C. 1701 et seq. and 43 CFR 8341.2. Any person who fails to comply with a closure or restriction order is subject to arrest and fines in accordance with applicable provisions of 18 U.S.C. 3571 and/or imprisonment not to exceed 12 months. This closure applies to all forms of motorized vehicle use excluding (1) any emergency, law enforcement or other BLM vehicle while being used for emergency or administrative purposes, and (2) any vehicle whose use is expressly authorized in writing by the Manager, Carson City Field Office. The public lands affected by the closure are located east of Gardnerville, Nevada and Highway 395, in the Pine Nut Mountain Range.

Mount Diablo Meridian, Nevada

T.12 N., R. 21 E.

secs. 7 and 8;

portions of secs. 6, 18, 19, and 23.

The area described contains 2,340 acres, more or less.

Maps showing these lands are available at the Carson City Field Office, 5665 Morgan Mill Road, Carson City, NV 89701.

The closure will remain in effect for five months and may be renewed until the Pine Nut Mountains Resource Management Plan Amendment Record of Decision is signed.

Authority: (43 CFR 8341.2)

Dated: January 23, 2008.
Donald T. Hicks,
Manager, Carson City Field Office.

[FR Doc. E8-1571 Filed 1-29-08; 8:45 am]

BILLING CODE 4310-HC-P